DEPARTMENT OF STATE

[Public Notice: 7076]

Notice of Receipt of Request To Amend the Presidential Permit for an International Bridge on the U.S.-Mexico Border at Eagle Pass, Texas and Piedras Negras, Coahuila, Mexico

AGENCY: Department of State.

ACTION: Notice.

SUMMARY: The Department of State hereby gives notice that, on June 1, 2010, it received from Eagle Pass, Texas, a request to amend the Presidential permit that the Department issued in 1996 for the Eagle Pass II International Bridge on the U.S.-Mexico border at Eagle Pass, Texas and Piedras Negras, Coahuila, Mexico. The permittee proposes to revise article 10 of the permit so it may begin to collect rent from the Federal government for the continued use of the bridge's inspection facilities.

Article 10 states that “[t]he permittee shall provide to the United States Customs Service and to other Federal Inspection Agencies, as appropriate, at no cost to the Federal government, temporary inspectional facilities, at a mutually agreed upon site, that are adequate and acceptable to the Federal Inspection Agencies. In providing the inspectional facilities, including selection of the site, the permittee shall fully comply with all National Environmental Policy Act and National Historic Preservation Act mitigation provisions and stipulations.”

The city's letter, explaining the rationale for this proposed change, is included in the Supplementary Information section below.

The Department's jurisdiction over this application is based upon Executive Order 11423 of August 16, 1968, as amended, and Article 1 of the 1996 permit, which states that the permit “may be amended by the Secretary of State or the Secretary's delegate at will or upon proper application therefor * * *.” As provided in E.O. 11423, the Department is circulating this application to relevant Federal and State agencies for review and comment. Under E.O. 11423, the Department has the responsibility to determine, taking into account input from these agencies and other stakeholders, whether the proposed amendment of this Presidential permit would be in the U.S. national interest.

DATES: Interested members of the public are invited to submit written comments regarding this application on or before July 28, 2010 to Stewart Tuttle, U.S.-Mexico Border Affairs Coordinator, via e-mail at WHA-BorderAffairs@state.gov, or by mail at WHA/MEX—Room 3909, Department of State, Washington, DC 20520.

FOR FURTHER INFORMATION CONTACT: Stewart Tuttle, U.S.-Mexico Border Affairs Coordinator, via e-mail at WHA-BorderAffairs@state.gov; by phone at 202-647-6356; or by mail at WHA/MEX—Room 3909, Department of State, Washington, DC 20520. General information about Presidential Permits is available on the Internet at http://www.state.gov/p/wha/rt/permit/.

SUPPLEMENTARY INFORMATION: The following is the text of the application that Daniel Valenzuela, City Manager, Eagle Pass, Texas, submitted to the Department on June 1, 2010.

Begin text.

This communication is in reference to removing the restrictions of receiving rental payments for the temporary inspection facilities in Article 10 of the Presidential Permit (No. 96-01) issued by the Department of State on April 12, 1996, for a second international bridge in Eagle Pass, Texas. Currently, Article 10 of the permit requires the City of Eagle Pass (permittee) to provide the temporary inspection facilities at “no cost” to the Federal Government.

As the permittee, and on behalf of the taxpayers of Eagle Pass, we are formally requesting that the Article 10 (Presidential Permit No. 96-01) restriction be removed so that an agreeable rental rate can be established for the temporary inspection facilities. The Finding of No Significant Impact (FONSI) issued by the Department of State on April 12, 1996, and in support of the permit issued on the same date, anticipated the need for the temporary facilities lasting between five and ten years. The current “no cost” lease has now been in effect for ten years and there is presently no timeline for the construction of the permanent inspection facilities. In addition, we believe that a change to the Presidential Permit will be a positive step toward helping develop a long-term solution to the past disagreements between GSA and the City of Eagle Pass. This solution will initiate progress towards construction of permanent facilities that will increase the capacity of the port, strengthen border security and improve working conditions for CBP officers.

Based on the anticipated ongoing need for use of the temporary facilities, and in fairness to the taxpayers of Eagle Pass, we believe that the City should now be permitted to negotiate with the Federal Government an agreeable rental rate for the continued use of these facilities. Most municipalities and private-sector owners of inspection facilities along the Texas-Mexico border are permitted the collection rents for improvements provided for use by the Federal Government. Furthermore, we understand that no other Presidential Permit contains a similar restriction.

We understand that the U.S. Department of State is willing, acting under Article 1 of the permit, in coordination with CBP and other Federal agencies, and after providing an opportunity for public comment, to consider modifying Article 10. The City of Eagle Pass respectfully asks to be consistently informed and updated on this process with written correspondence.

It is the City's sincerest hope that an amendment to the Presidential Permit may be handled in an expeditious manner; we thank you for your consideration in this most important issue for our community.

End text.

Dated: June 29, 2010.
Alex Lee,
Director, Office of Mexican Affairs, Department of State.

[FR Doc. 2010-16518 Filed 7-6-10; 8:45 am]

BILLING CODE 4710-29-P